DEPARTMENT OF ENERGY

Federal Energy Regulatory Commission

[Docket No. RP99-513-024]

Questar Pipeline Company; Notice of Tariff Filing

March 6, 2003.

Take notice that on March 3, 2003, pursuant to 18 CFR 154.7 and 154.203, and as provided by section 30 (Negotiated Rates) to the General Terms and Conditions of part 1 of Questar Pipeline Company's (Questar) FERC Gas Tariff, Questar submitted a tariff filing to implement negotiated-rate contracts for Dominion Exploration & Production, Inc., and BP Energy Company as authorized by Commission orders issued October 27, 1999, and December 14, 1999, in Docket Nos. RP99-513, et al.

Questar requested waiver of 18 CFR 154.207 so that Twenty-Fifth Revised Sheet No. 7 to First Revised Volume No. 1 of its FERC Gas Tariff may become effective March 1, 2003.

Questar states that a copy of this filing has been served upon all parties to this proceeding, Questar's customers, the Public Service Commission of Utah and the Public Service Commission of Wyoming.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 17, 2003.

Magalie R. Salas,
Secretary.

[FR Doc. 03-6036 Filed 3-12-03; 8:45 am]

BILLING CODE 6717-01-P